FEDERAL ELECTION COMMISSION

11 CFR Parts 100, 101, 102, 104, 106, 110, 113, 114, 116, 300, 9002, 9003, 9004, 9034, and 9035

[Notice 2002-29]

BCRA Technical Amendments

AGENCY: Federal Election Commission.

ACTION: Final rule; technical amendments.

SUMMARY: The Commission recently reorganized the sections defining “contributions” and “expenditures,” and also redesignated other sections. These technical amendments correct cites in title 11 of the Code of Federal Regulations to bring the regulations into conformity with the designation. Additionally, the final rules correct typographical mistakes made in the recently promulgated Bipartisan Campaign Reform Act rulemakings. Further information is provided in the supplementary information that follows.

EFFECTIVE DATE: December 26, 2002.

FOR FURTHER INFORMATION CONTACT: Mai T. Dinh, Acting Assistant General Counsel, 999 E Street, NW., Washington, DC, 20463, (202) 694-1650 or (800) 424-9530.

SUPPLEMENTARY INFORMATION: The Bipartisan Campaign Reform Act of 2002 (“BCRA”), Pub. L. 107-155, 116 Stat. 81 (March 27, 2002), contains extensive amendments to the Federal Election Campaign Act of 1971 (“FECA” or “the Act”), as amended, 2 U.S.C. 431 et seq. This final rule is part of a continuing series of rulemakings the Commission has published over the last several months in order to meet the rulemaking deadlines set out in BCRA. In the Final Rule on Reorganization of the Definitions of “Contribution” and “Expenditure,” 67 FR 50582 (August 5, 2002), the Commission moved these definitions from former 11 CFR 100.7 and 100.8 to new 11 CFR part 100, subparts B, C, D and E. Additionally, the Commission notes that in the various final rules that the Commission promulgated this year, it moved the following sections and paragraphs: 109.2, 109.3, 110.1(i)(2), 110.4(a), 110.7, 110.9(b), 110.9(c), and 110.9(d). Consequently, current regulations that include cross references to these former sections and paragraphs need to be updated to reflect the new citations.¹ Therefore, the Commission is publishing this final rule to make necessary technical and conforming amendments to its regulations to reflect the current citations, as well as to correct typographical errors that are in the various final rules.

¹ See the following rulemakings: Final Rules on Prohibited and Excessive Contributions: Non-Federal Funds or Soft Money, 67 FR 49064 (July 29, 2002); Final Rules on Reorganization of Regulations on Contributions and Expenditures, 67 FR 50582 (August 5, 2002); Final Rules on Coordinated and Independent Expenditures, 67 FR (forthcoming December, 2002); Final Rules on Electioneering Communications, 67 FR 65212 (October 23, 2002); Final Rules on Contribution Limitations and Prohibitions, 67 FR 69928 (November 19, 2002).

Because the final rules published herein are merely technical and non-substantive, they are not a substantive rule requiring notice and comment under the Administrative Procedure Act, 5 U.S.C. 553. Under the “good cause” exception to the notice and comment requirements, 5 U.S.C. 553(b)(B) and 553(d)(3), the final rules are effective upon publication. Thus, the final rules are effective on December 26, 2002.

Certification of No Effect Pursuant to 5 U.S.C. 605(b) [Regulatory Flexibility Act]

This final rule does not have a significant economic impact on a substantial number of small entities. The amendments in this final rule are all technical and nonsubstantive in nature and do not have any economic impact on any entity subject to the underlying regulations.

List of Subjects

11 CFR Part 100

Elections.

11 CFR Part 101

Political candidates, Reporting and recordkeeping requirements.

11 CFR Part 102

Political committees and parties, Reporting and recordkeeping requirements.

11 CFR Part 104

Campaign funds, Political committees and parties, Reporting and recordkeeping requirements.

11 CFR Part 106

Campaign funds, Reporting and recordkeeping requirements.

11 CFR Part 110

Campaign funds, Political committees and parties.

11 CFR Part 113

Campaign funds.

11 CFR Part 114

Business and industry, Elections, Labor.

11 CFR Part 116

Administrative practice and procedure, Business and industry, Credit, Elections, Political candidates, Political committees and parties.

11 CFR Part 300

Campaign funds, Nonprofit organizations, Political committees and parties, Political candidates, Reporting and recordkeeping requirements.

11 CFR Part 9002

Campaign funds.

11 CFR Part 9003

Campaign funds, Reporting and recordkeeping requirements.

11 CFR Part 9004

Political candidates, Reporting and recordkeeping requirements.

11 CFR Part 9034

Campaign funds, Reporting and recordkeeping requirements.

11 CFR Part 9035

Campaign funds, Reporting and recordkeeping requirements.

For the reasons set out in the preamble, subchapters A, E and F of chapter 1 of title 11 of the Code of Federal Regulations are amended as follows:

PART 100-SCOPE AND DEFINITIONS (2 U.S.C. 431)

1. The authority citation for part 100 continues to read as follows:

Authority: 2 U.S.C. 431, 434, and 438(a)(8).

§§ 100.5, 100.52, 100.82, 100.87, 100.89, 100.91, 100.142, 100.147, 100.149 and 100.159 [Amended]

2. In the table below, for each section indicated in the left column, remove the citation indicated in the middle column, and replace it with the citation indicated in the right column:

Section | Remove | Add
100.5(c) | 100.7(b)(9), (15) and (17) | 100.80, 100.87, and 100.89.
100.5(c) | 100.8(b)(10), (16) and (18) | 100.140, 100.147 and 100.149.
100.52(b)(5) | 110.4(a) | 110.20.
100.82(e)(1)(ii) | 110.4 | 110.4, 110.20.
100.87(g) | 110.7 | 109.32.
100.89(g) | 110.7 | 109.32.
100.91 | 110.4(a) | 110.20.
100.142(e)(1)(ii) | 110.4 | 110.4, 110.20.
100.147(g) | 110.7 | 109.32.
100.149(g) | 110.7 | 109.32.
100.151 | 110.4(a) | 110.20.

PART 101—CANDIDATE STATUS AND DESIGNATIONS (2 U.S.C. 432(e))

3. The authority citation for part 101 is revised to read as follows:

Authority: 2 U.S.C. 432(e), 434(a)(11), and 438(a)(8).

§§ 101.2 and 101.3 [Amended]

4. In the table below, for each section indicated in the left column, remove the citation indicated in the middle column, and replace it with the citation indicated in the right column:

Section | Remove | Add
101.2(a) | 100.7 | part 100, subparts B and C.
101.3 | 100.7(b)(1) | 100.72(a).
101.3 | 100.8(b)(1) | 100.131(a).

PART 102-REGISTRATION, ORGANIZATION, AND RECORDKEEPING BY POLITICAL COMMITTEES (2 U.S.C. 433)

5. The authority citation for part 102 continues to read as follows:

Authority: 2 U.S.C. 432, 433, 434(a)(11), 438(a)(8), 441d.

§§ 102.5, 102.7, 102.13 and 102.14 [Amended]

6. In the table below, for each section indicated in the left column, remove the citation indicated in the middle column, and replace it with the citation indicated in the right column:

Section | Remove | Add
102.5(b)(1) | 100.7(b)(9), (15) and (17) | 100.80, 100.87 and 100.89.
102.5(b)(1) | 100.8(b)(10), (16) and (18) | 100.140, 100.147 and 100.149.
102.7(d) | 100.7 | part 100, subparts B and D.
102.13(b) | 110.7 | part 109, subpart D.
102.13(c)(2) | 11 CFR part 110 | 11 CFR part 109, subpart D and 11 CFR part 110.
102.14(c) | 109.3 | 109.11.

PART 104-REPORTS BY POLITICAL COMMITTEES (2 U.S.C. 434)

7. The authority citation for part 104 continues to read as follows:

Authority: 2 U.S.C. 431(1), 431(8), 431(9), 432(i), 434, 438(a)(8) and (b), and 439a.

§§ 104.3 and 104.6 [Amended]

8. In the table below, for each section indicated in the left column, remove the citation indicated in the middle column, and replace it with the citation indicated in the right column:

Section | Remove | Add
104.3(a)(3)(iii) | 110.7 | part 109, subpart D.
104.3(b)(1)(viii) | 110.7 | part 109, subpart D.
104.3(b)(3)(viii) | 110.7 | part 109, subpart D.
104.3(d)(1) | 100.7(b)(11) | 100.82(a) through (d).
104.3(d)(1) | 100.8(b)(12) | 100.142(a) through (d).
104.3(d)(1)(iv) | 100.7(b)(11)(i)(A) and (B) | 100.82(e)(1) and (2).
104.3(d)(1)(iv) | 100.8(b)(12)(i)(A) and (B) | 100.142(e)(1) and (2).
104.3(d)(1)(v) | 100.7(b)(11) | 100.82(a) through (d).
104.3(d)(1)(v) | 100.8(b)(12) | 100.142(a) through (d).
104.3(g) | 100.7(b)(12) | 100.84.
104.3(h) | 100.7(b)(13) and (14) | 100.85 and 100.86.
104.6(a) | 100.8(b)(4) | 100.134(a).

PART 106-ALLOCATIONS OF CANDIDATE AND COMMITTEE ACTIVITIES

9. The authority citation for part 106 continues to read as follows:

Authority: 2 U.S.C. 438(a)(8), 441a(b), 441a(g).

§§ 106.1, 106.2, 106.4, and 106.7 [Amended]

10. In the table below, for each section indicated in the left column, remove the citation indicated in the middle column, and replace it with the citation indicated in the right column:

Section | Remove | Add
106.1(b) | 110.7 | 109.32 or 109.33.
106.1(c)(3) | 100.7(b)(17) | 100.89.
106.1(c)(3) | 100.8(b)(18) | 100.149.
106.2(a)(2) | 100.7(b)(1) | 100.72(a).
106.2(a)(2) | 100.8(b)(1) | 100.131(a).
106.4(a) | 100.8(b)(1) | 100.131(a).
106.4(b) | 100.7(b)(1) | 100.72(a).
106.7(c)(3) | 100.7(b)(9), (15) or (17) | 100.80, 100.87 or 100.89.
106.7(c)(3) | 100.7(b)(10), (16) or (18) | 100.140, 100.147 or 100.149.

PART 110—CONTRIBUTION AND EXPENDITURE LIMITATIONS AND PROHIBITIONS

11. The authority citation for part 110 continues to read as follows:

Authority: 2 U.S.C. 431(8), 431(9), 432(c)(2), 437d, 438(a)(8), 441a, 441b, 441d, 441e, 441f, 441g, 441h and 441k.

§§ 110.13 and 110.19 [Amended]

12. In the table below, for each section indicated in the left column, remove the citation or phrase indicated in the middle column, and replace it with the citation or phrase indicated in the right column:

Section | Remove | Add
110.13(a)(2) | 100.7 | part 100, subparts B and C.
110.13(a)(2) | 100.8 | part 100, subparts D and E.
110.19(e) paragraph heading | maintain, finance | finance, maintain.
110.19(e) | maintain, finance | finance, maintain.

PART 113—EXCESS CAMPAIGN FUNDS AND FUNDS DONATED TO SUPPORT FEDERAL OFFICE-HOLDER ACTIVITIES (2 U.S.C. 439a)

13. The authority citation for part 113 continues to read as follows:

Authority: 2 U.S.C. 432(h), 438(a)(8), 439a, 441a.

§ 113.1 [Amended]

14. In the table below, for each section indicated in the left column, remove the citation indicated in the middle column, and replace it with the citation indicated in the right column:

Section | Remove | Add
113.1(g)(5) | 100.8 | part 100, subparts D and E.
113.1(g)(6) | 100.7 | part 100, subparts B and C.

PART 114—CORPORATE AND LABOR ORGANIZATION ACTIVITY

15. The authority citation for part 114 continues to read as follows:

Authority: 2 U.S.C. 431(8)(B), 431(9)(B), 432, 434, 437d(a)(8), 438(a)(8), 441b.

§§ 114.1, 114.2, 114.3, 114.4, 114.5, 114.9, and 114.10 [Amended]

16. In the table below, for each section indicated in the left column, remove the citation indicated in the middle column, and replace it with the citation indicated in the right column:

Section | Remove | Add
114.1(a)(1) | 100.7(b)(11) | 100.82(a) through (d).
114.2(b)(1) | 100.7(a) | part 100, subpart B.
114.2(b)(2)(i) | 100.8(a) | part 100, subpart. D
114.2(c) | 109.1 | 100.16.
114.2(f)(1) | 100.7 | part 100, subparts B and C.
114.2(f)(1) | 100.8 | part 100, subparts D and E.
114.3(a)(1) | 109.1 | 100.16.
114.3(b) | 100.8(b)(4) | 100.134(a).
114.4(a) | 109.1 | 100.16.
114.5(e)(2)(i) | 100.8(b)(4) | 100.134(a).
114.9(a)(2) | 100.7(a)(1)(iii)(B) | 100.52(d)(2).
114.9(b)(2) | 100.7(a)(1)(iii)(B) | 100.52(d)(2).
114.9(d) | 100.7(a)(1)(iii)(B) | 100.52(d)(2).
114.10(e)(2) | 109.2 | 109.10.

PART 116—DEBTS OWED BY CANDIDATES AND POLITICAL COMMITTEES

17. The authority citation for part 116 continues to read as follows:

Authority: 2 U.S.C. 433(d), 434(b)(8), 438(a)(8), 441a, 441b, and 451.

§§ 116.4, 116.5 and 116.6 [Amended]

18. In the table below, for each section indicated in the left column, remove the citation indicated in the middle column, and replace it with the citation indicated in the right column:

Section | Remove | Add
116.4(a)(1) | 100.7(b) | part 100, subpart C.
116.4(b)(1) | 100.7(b) | part 100, subpart C.
116.4(c)(1) | 100.7(b) | part 100, subpart C.
116.5(b) | 100.7(b)(8) | 100.79.
116.6(a) | 100.7 | part 100, subparts B and C.
116.6(a) | 100.7(b)(3) | 100.74.

PART 300—NON-FEDERAL FUNDS

19. The authority citation for part 300 is revised to read as follows:

Authority: 2 U.S.C. 434(e), 438(a)(8), 441a(a), 441i, 453.

§§ 300.2 and 300.36 [Amended]

20. In the table below, for each section indicated in the left column, remove the citation or phrase indicated in the middle column, and replace it with the citation or phrase indicated in the right column:

Section | Remove | Add
300.2(c) paragraph heading | maintain, finance | finance, maintain.
300.36(a)(2) | 100.8(b)(10), (16), or (18) | 100.140, 100.147, or 100.149.
300.36(c)(2) | 100.7 | part 100, subpart B.
300.36(c)(2) | 100.8 | part 100, subpart D.

PART 9002—DEFINITIONS

21. The authority citation for part 9002 continues to read as follows:

Authority: 26 U.S.C. 9002 and 9009(b).

§§ 9002.11 and 9002.13 [Amended]

22. In the table below, for each section indicated in the left column, remove the citation indicated in the middle column, and replace it with the citation indicated in the right column:

Section | Remove | Add
9002.11(b)(5) | 100.7(b)(14) | 100.86.
9002.11(b)(5) | 100.8(b)(15) | 100.146.
9002.13 | 100.7 | part 100, subparts B and C.

PART 9003—ELIGIBILITY FOR PAYMENTS

23. The authority citation for part 9003 continues to read as follows:

Authority: 26 U.S.C. 9003 and 9009(b).

§§ 9003.3 and 9003.4 [Amended]

24. In the table below, for each section indicated in the left column, remove the citation indicated in the middle column, and replace it with the citation indicated in the right column:

Section | Remove | Add
9003.3(a)(2)(iii) | 100.8(b)(15) | 100.146.
9003.4(b)(1) | 100.7(b)(11) | 100.82.

PART 9004-ENTITLEMENT OF ELIGIBLE CANDIDATES TO PAYMENTS; USE OF PAYMENTS

25. The authority citation for part 9004 continues to read as follows:

Authority: 26 U.S.C. 9004 and 9009(b).

§§ 9004.1 and 9004.4 [Amended]

26. In the table below, for each section indicated in the left column, remove the citation indicated in the middle column, and replace it with the citation indicated in the right column:

Section | Remove | Add
9004.1 | 110.9(c) | 110.17(a).
9004.4(a)(2) | 100.7(a)(1) or (b)(11) | 100.52(b) or 100.82.

PART 9008—FEDERAL FINANCING OF PRESIDENTIAL NOMINATING CONVENTIONS

27. The authority citation for part 9008 continues to read as follows:

Authority: 2 U.S.C. 437, 438(a)(8); 26 U.S.C. 9008, 9009(b).

§ 9008.7 [Amended]

28. In the table below, for each section indicated in the left column, remove the citation indicated in the middle column, and replace it with the citation indicated in the right column:

Section | Remove | Add
9008.7(b)(3) | 110.4 | 110.4, 110.19(b)(2), and 110.20.

PART 9032—DEFINITIONS

29. The authority citation for part 9032 continues to read as follows:

Authority: 26 U.S.C. 9032 and 9039(b).

§ 9032.4 [Amended]

30. In the table below, for each section indicated in the left column, remove the citation indicated in the middle column, and replace it with the citation indicated in the right column:

Section | Remove | Add
9032.4 | 100.7 | part 100, subparts B and C.

PART 9034—ENTITLEMENTS

31. The authority citation for part 9034 continues to read as follows:

Authority: 26 U.S.C. 9034 and 9039(b).

§§ 9034.2 and 9034.4 [Amended]

32. In the table below, for each section indicated in the left column, remove the citation indicated in the middle column, and replace it with the citation indicated in the right column:

Section | Remove | Add
9034.2(a)(4) | 100.7(b)(1) | 100.72(a).
9034.2(a)(4) | 100.8(b)(1) | 100.131(a).
9034.4(a)(2) | 100.8(b)(1) | 100.131(a).
9034.4(e)(1) | 110.9(c) | 110.17(a).

PART 9035—EXPENDITURE LIMITATIONS

33. The authority for part 9035 continues to read as follows:

Authority: 26 U.S.C. 9035 and 9039(b).

§ 9035.1 [Amended]

34. In the table below, for each section indicated in the left column, remove the citation indicated in the middle column, and replace it with the citation indicated in the right column:

Section | Remove | Add
9035.1(c)(1) | 100.8(b)(15) | 100.146.
9035.1(c)(2) | 100.8(b)(21)(iii) | 100.152(c).

Dated: December 19, 2002.
David M. Mason,
Chairman, Federal Election Commission.

[FR Doc. 02-32452 Filed 12-24-02; 8:45 am]

BILLING CODE 6715-01-P